DEPARTMENT OF THE INTERIOR

National Park Service

[NPS-NERO-BLRV-NPS0031853; ACCT Number: PPNEBLRV00/PPMPSPD1Z.YM0000]

Blackstone River Valley National Historical Park

AGENCY: National Park Service, Interior.

ACTION: Notice.

SUMMARY: As authorized by Section 3031 of the National Defense Authorization Act for Fiscal Year 2015, the National Park Service (NPS) announces that the Secretary of the Interior (Secretary) has established the park boundary for Blackstone River Valley National Historical Park in the Commonwealth of Massachusetts and the State of Rhode Island.

DATES: The effective date of the establishment of the boundary is August 11, 2021.

FOR FURTHER INFORMATION CONTACT: Celeste Bernardo, Acting Deputy Regional Director, NPS, Interior Region 1 at (978) 275-1703.

ADDRESSES: A color version and more detailed area maps depicting the boundary are available here: https://www.nps.gov/blrv/planyourvisit/maps.htm.

SUPPLEMENTARY INFORMATION: Section 3031 of the National Defense Authorization Act for Fiscal Year 2015, Public Law 113-291 includes a specific provision relating to establishment of a Park boundary for Blackstone River Valley National Historical Park. To establish the boundary, the Secretary must determine that a sufficient quantity of land, or interests in land, has been acquired to constitute a manageable park unit and must publish a boundary map in the Federal Register.

The NPS acquired by Donation Deed the fee simple interests in the 3.06 acres at 67 Roosevelt Avenue in Pawtucket, Rhode Island, on March 31, 2021. This property contains the historic Old Slater Mill (ca. 1793), the Wilkinson Mill (ca. 1810) and the Sylvanus Brown House (ca. 1753) and associated lands.

In addition, on March 27, 2021, the NPS accepted the conveyance of an 85-acre conservation and preservation easement from the State of Rhode Island for the protection of portions of the Blackstone River State Park including the historic canal and the Captain Wilbur Kelly House Museum.

Further, the enabling legislation provides that the Secretary may include in the park boundary any resources that are the subject of an agreement with the States or a subdivision of the States entered into under paragraph (c)(4)(D) of the Act. The park has entered into such agreements with the following subdivisions:

• Town of Northbridge, Massachusetts for Whitinsville Historic District (April 11, 2018)

• Town of Hopedale, Massachusetts for Little Red Shop Local Historic District (August 8, 2019)

• Town of Cumberland, Rhode Island for Ashton Historic District (October 11, 2018)

• Town of North Smithfield, Rhode Island for Slatersville Local Historic District (March 20, 2018)

Each of these communities has a local historic district in place within its defined historic district that has the benefit of local regulatory oversight and protection. These areas are considered to be within the boundary of the park.

On July 27, 2021, the Secretary of the Interior signed a Decision Memorandum determining that a sufficient quantity of land, or interests in land, had been acquired to constitute a manageable park unit. With the signing of this Decision Memorandum by the Secretary and the publication of the boundary map in the Federal Register, the boundary of the Blackstone River Valley National Historical Park is established.

BILLING CODE 4312-52-P

Shawn Benge,
Deputy Director, Operations, Exercising the Delegated Authority of the Director, National Park Service.

[FR Doc. 2021-17125 Filed 8-10-21; 8:45 am]

BILLING CODE 4312-52-C